DEPARTMENT OF COMMERCE

Patent and Trademark Office

37 CFR Part 42

[Docket No. PTO-P-2015-0032]

RIN 0651-AD00

Amendments to the Rules of Practice for Trials Before the Patent Trial and Appeal Board

Correction

In rule document 2015-12117 appearing on pages 28561-28566 in the issue of Tuesday, May 19, 2015, make the following correction:

On page 28563, in the third column, third line from the bottom, delete “http://www.cruiseamerica.com/rent/ourvehicles/”.

[FR Doc. C1-2015-12117 Filed 6-15-15; 8:45 am]

BILLING CODE 1505-01-P